DEPARTMENT OF THE INTERIOR

National Park Service

National Register of Historic Places; Notification of Pending Nominations and Related Actions

Nominations for the following properties being considered for listing or related actions in the National Register were received by the National Park Service before October 20, 2007. Pursuant to § 60.13 of 36 CFR part 60 written comments concerning the significance of these properties under the National Register criteria for evaluation may be forwarded, by United States Postal Service, to the National Register of Historic Places, National Park Service, 1849 C St., NW., 2280, Washington, DC 20240; by all other carriers, National Register of Historic Places, National Park Service,1201 Eye St., NW., 8th Floor, Washington, DC 20005; or by fax, 202-371-6447. Written or faxed comments should be submitted by November 19, 2007.

J. Paul Loether,
Chief, National Register of Historic Places/National Historic Landmarks Program.

CALIFORNIA

Santa Cruz County

Cowell Lime Works Historic District, 1156 High St, Santa Cruz, 07001220

DISTRICT OF COLUMBIA

District of Columbia

Foxhall Village Historic District, (Historic Residential Suburbs in the United States, 1830-1960 MPS) Bounded by Reservoir Rd NW, Glover-Archibald Park, P St NW & Foxhall Rd NW, Washington, 07001221

KANSAS

Chautauqua County

Bradford Hotel, 103 N Chautauqua, Sedan, 07001222

Cheyenne County

Hickert, Henry, Building, 104 W 4th, Bird City, 07001223

Dickinson County

Naroma Court Historic District, 800 N Buckeye; 801, 803, 805 Spruceway; 106 Naroma Ct, Abilene, 07001224

Jewell County

Burr Oak United Methodist Church, NE corner Pennsylvania & Washington Sts, Burr Oak, 07001225

Johnson County

Foster, Herman B., House, 204 W Main St, Gardner, 07001226

Marion County

Meehan, P.H., House, Address Restricted, Tampa, 07001227

Sedgwick County

Bond—Sullivan House, 936 Back Bay Blvd, Wichita, 07001228

Fresh Air Baby Camp, 1229 W 11th St, Wichita, 07001229

Holyoke Cottage, 1704 N Holyoke, Wichita, 07001230

MISSOURI

Jackson County

U.S. Courthouse and Post Office—Kansas City, MO, 811 Grand Blvd, Kansas City, 07001231

MONTANA

Rosebud County

St. Philip's Episcopal Church, 701 Main St, Rosebud, 07001232

NEW YORK

New York County

Van Tassell and Kearney Horse Auction Mart, 126—128 E 13th St, New York, 07001233

TEXAS

Harris County

Almeda Road Bridge over Brays Bayou, (Historic Bridges of Texas MPS) Almeda Rd at Brays Bayou, Houston, 07001234

Telephone Road Bridge over Brays Bayou, (Historic Bridges of Texas MPS) Telephone Rd at Brays Bayou, Houston, 07001235

VIRGINIA

Albemarle County

Southern Albermarle Rural Historic District, Roughly bounded by Rivanna R, VA 20, Green Mt, James R., Blenheim, Jefferson Mill Rolling & Milton Rds & Monroe Pkwy, Charlottesville, 07001236

A request for REMOVAL has been made for the following resource:

NORTH DAKOTA

Walsh County

Odalen Lutherske Kirke, 6 mi W and ¼ mi N of Jct ND 32 and Cty Rte 9, Edinburg vicinity, 05001517

[FR Doc. E7-21620 Filed 11-1-07; 8:45 am]

BILLING CODE 4310-70-P